FEDERAL MARITIME COMMISSION

Sunshine Act Meeting

Agency Holding the Meeting: Federal Maritime Commission.

Time and Date: 10 a.m.—August 15, 2001.

Place: 800 North Capitol Street, NW., First Floor Hearing Room, Washington, DC.

Status: A portion of the meeting will be open to the public, and the remainder of the meeting will be closed.

Matters to be Considered: The Open Portion of the Meeting:

1. Ocean Shipping Reform Act Impact Study; Docket No. 01-01—The Impact of the Ocean Shipping Reform Act of 1998.

The Closed Portion of the Meeting:

1. Docket No. 98-14—Shipping Restrictions, Requirements and Practices of the Peoples Republic of China.

2. Petition No. P3-00—Petition of China Ocean Shipping (Group) Company for a Partial Exemption from the Controlled Carrier Act.

3. Petition No. P2-00—Petition of China National Foreign Trade Transportation (Group) Corp. (SINOTRANS) for Exemption from Section 9(c) of the Shipping Act of 1984.

4. Issues Arising Under the Shipping Act of 1984 Relating to Controlled Carriers of the People's Republic of China.

5. Docket No. 99-18— Stallion Cargo, Inc.—Possible Violations of Sections 10(a)(1) and 10(b)(1) of the Shipping Act of 1984.

CONTACT PERSON FOR MORE INFORMATION: Bryant L. VanBrakle, Secretary, (202) 523-5725.

Bryant L. VanBrakle,
Secretary.

[FR Doc. 01-16803 Filed 6-29-01; 2:42 pm]

BILLING CODE 6730-01-M